UNITED STATES SENTENCING COMMISSION

Request for Applications; Sentence Impact Advisory Group

AGENCY: United States Sentencing Commission.

ACTION: Notice.

SUMMARY: The Commission has decided to establish a Sentence Impact Advisory Group as a standing advisory group to the Commission. Having adopted a formal charter for the Sentence Impact Advisory Group, the Commission is constituting the initial membership of the advisory group under that charter. The Commission hereby invites any individual who is eligible to be appointed to the Sentence Impact Advisory Group to apply by sending a letter of interest and resume to the Commission as indicated in the ADDRESSES section below. Application materials should be received by the Commission not later than June 6, 2025.

DATES: Application materials for membership of the Sentence Impact Advisory Group should be received not later than June 6, 2025.

ADDRESSES: An applicant for membership of the Sentence Impact Advisory Group should apply by sending a letter of interest and resume to the Commission by electronic mail or regular mail. The email address is pubaffairs@ussc.gov. The regular mail address is United States Sentencing Commission, One Columbus Circle NE, Suite 2-500, South Lobby, Washington, DC 20002-8002, Attention: Public Affairs—SIAG Membership.

FOR FURTHER INFORMATION CONTACT: Jennifer Dukes, Senior Public Affairs Specialist, (202) 502-4597. More information about the Sentence Impact Advisory Group is available on the Commission's website at www.ussc.gov/advisory-groups.

SUPPLEMENTARY INFORMATION: The United States Sentencing Commission is an independent agency in the judicial branch of the United States Government. The Commission promulgates sentencing guidelines and policy statements for federal courts pursuant to 28 U.S.C. 994(a). The Commission also periodically reviews and revises previously promulgated guidelines pursuant to 28 U.S.C. 994(o) and submits guideline amendments to the Congress not later than the first day of May each year pursuant to 28 U.S.C. 994(p).

The Commission recently adopted a formal charter for the Sentence Impact Advisory Group (the “SIAG”). The SIAG is a standing advisory group to the Commission established under 28 U.S.C. 995 and Rule 5.4 of the Commission's Rules of Practice and Procedure. Under the charter of the SIAG, the purpose of the advisory group is:

(1) to assist the Commission in carrying out its statutory responsibilities under 28 U.S.C. 994(o);

(2) to provide to the Commission its views on the Commission's activities and work, including proposed priorities and amendments, as they relate to sentenced individuals;

(3) to disseminate information regarding federal sentencing issues to other sentenced individuals, families of sentenced individuals, and advocacy groups, as appropriate;

(4) to provide to the Commission its views on how the Commission may better incorporate into its work the perspectives of individuals affected by federal sentences;

(5) to assist the Commission in determining how it can best fulfill its duty under 28 U.S.C. 994(s) to “give due consideration to any petition filed by a defendant requesting modification of the guidelines utilized in the sentencing of such defendant, on the basis of changed circumstances unrelated to the defendant”; and

(6) to perform any other related functions as the Commission requests.

The SIAG shall consist of no more than nine members. Each member is appointed by the Commission. To be eligible to serve in the SIAG, a member must be (1) an individual sentenced for a federal offense, or (2) a family member of an individual sentenced for a federal offense. For appointment of the initial members of the SIAG and thereafter as vacancies arise, the Commission intends to openly solicit applications for membership from sentenced individuals and their families. The Commission intends that the SIAG membership shall be appointed in a manner that ensures diverse representation in background, demographics, types of offenses that led to sentencing, types of sentences imposed, geographic location, and other unique characteristics. The Commission also intends that the SIAG membership should aim to reflect the many perspectives within the federally sentenced population, including perspectives informed by differences in terms of age, disability, ethnicity, gender, gender identity or expression, national origin, race, religion, sexual orientation, and tribal membership.

All members of the SIAG shall serve not more than two consecutive three-year terms. However, the terms of the initial membership shall be staggered so that 3 members serve a term of three years, 3 members serve a term of two years, and 3 members serve a term of one year.

The Commission invites any individual who is eligible to be appointed to the SIAG to apply by sending a letter of interest and a resume to the Commission as indicated in the ADDRESSES section above.

(Authority: 28 U.S.C. 994(a), (o), (p), 995; USSC Rules of Practice and Procedure 2.2(c), 5.4.)

Carlton W. Reeves,
Chair.

[FR Doc. 2025-05958 Filed 4-7-25; 8:45 am]

BILLING CODE 2210-40-P